FEDERAL COMMUNICATIONS COMMISSION

Sunshine Act Meeting; Open Commission Meeting; Tuesday, July 12, 2011

Date: July 5, 2011.

The Federal Communications Commission will hold an Open Meeting on the subjects listed below on Tuesday, July 12, 2011, which is scheduled to commence at 10:30 a.m. in Room TW-C305, at 445 12th Street, SW., Washington, DC.

1 | Media | Title: Creation of A Low Power Radio Service (MM Docket No. 99-25) and Amendment of Service and Eligibility rules for FM Broadcast Translator Stations (MB Docket No. 07-172) Summary: The Commission will consider a Notice of Proposed Rule Making seeking comment on the impact of the Local Community Radio Act on the future licensing of low power FM and FM translator stations.
2 | Consumer & Governmental Affairs | Title: Empowering Consumers to Prevent and Detect Billing for Unauthorized Charges (“Cramming”); Consumer Information and Disclosure (CG Docket No. 09-158) and Truth-in-Billing Format (CC Docket No. 98-170) Summary: The Commission will consider a Notice of Proposed Rule Making designed to empower consumers to prevent and detect unauthorized telephone bill charges (“mystery fees” or “cramming”) by improving the disclosure of third-party charges on telephone bills.
3 | Public Safety and Homeland Security Bureau | Title: Wireless E911 Location Accuracy Requirements (PS Docket No. 07-114); E911 Requirements for IP-Enabled Service Providers (WC Docket No. 05-196); and Amending the Definition of Interconnected VoIP Service in Section 9.3 of the Commission's Rules Summary: The Commission will consider a Report and Order enabling a more effective emergency response system by ensuring that 911 call centers continue to receive precise wireless E911 location information and a Second Further Notice of Proposed Rulemaking and a Notice of Proposed Rulemaking seeking to improve E911 location accuracy and reliability for existing and new voice communications technologies, including Voice over Internet Protocol (VoIP).

Reforms to certain of the Commission's procedural rules took effect June 1, 2011. See http://transition.fcc.gov/Daily_Releases/Daily_Business/2011/db0415/FCC-11-11A1.pdf. Pursuant to these rules, the Sunshine period will now begin at midnight on the day that the Open Meeting agenda (Sunshine notice) is released. Thus, the Sunshine period for the July 12, 2011 Meeting begins at midnight tonight. Note that under the revised rules, ex parte presentations made on the day the Sunshine notice is released relating to a covered proceeding must be filed by the next business day. For further information on revised rules relating to the Sunshine period and ex parte presentations, consult our Web site. See http://www.fcc.gov/exparte.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov mailto:fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at http://www.fcc.gov/live http://www.fcc.gov/live.

For a fee this meeting can be viewed live over George Mason University's Capitol Connection. The Capitol Connection also will carry the meeting live via the Internet. To purchase these services call (703) 993-3100 or go to http://www.capitolconnection.gmu.edu.

Federal Communications Commission.
Bulah P. Wheeler,
Deputy Manager, Office of the Secretary, Office of Managing Director.

[FR Doc. 2011-17433 Filed 7-7-11; 4:15 pm]

BILLING CODE 6712-01-P